DEPARTMENT OF HOUSING AND URBAN DEVELOPMENT

[Docket No. FR-5067-N-03]

Extension of HUD's Implementation Guidance for Section 901 of the Emergency Supplemental Appropriations To Address Hurricanes in the Gulf of Mexico, and Pandemic Influenza Act, 2006, as Revised by Section 4803 of the U.S. Troop Readiness, Veterans' Care, Katrina Recovery, and Iraq Accountability Appropriations Act, 2007 To Include Calendar 2007 Program Funds

AGENCY: Office of the Assistant Secretary for Public and Indian Housing, HUD.

ACTION: Notice.

SUMMARY: This notice supplements two earlier notices published in the Federal Register that provided guidance to public housing agencies (PHAs) on implementing the authority provided to HUD by section 901 of the “Emergency Supplemental Appropriations to Address Hurricanes in the Gulf of Mexico and Pandemic Influenza Act, 2006” (Pub. L. 109-148, December 30, 2005) to allow PHAs to combine operating and capital funds and use flexibly and efficiently to facilitate disaster recovery in the States of Louisiana and Mississippi. Such authority was provided for calendar year 2006. This notice advises of the extension of such authority through calendar year 2007 by section 4803 of the U.S. Troop Readiness, Veterans' Care, Katrina Recovery, and Iraq Accountability Appropriations Act, 2007 (Pub. L. 110-28, May 25, 2007).

Eligible PHAs interested in using funds under the authority provided must submit a 2007 Notice of Intent and Fungibility Plan in accordance with the July 28, 2006, and October 30, 2006, Federal Register Notices. Further information on may be found on the Office of Public and Indian Housing Web site at http://www.hud.gov/offices/pih/.

DATES: Eligible PHAs must submit their Calendar Year 2007 Notices of Intent and Fungibility Plans no later than September 14, 2007.

FOR FURTHER INFORMATION CONTACT: For technical assistance and other questions concerning the Notice of Intent and Section 901 Fungibility Plan, PHAs should contact their local HUD Public Housing Hub in New Orleans, Louisiana, or Jackson, Mississippi; or Bessy Kong, Deputy Assistant Secretary for Policy, Program, and Legislative Initiatives, Office of Public and Indian Housing, Department of Housing and Urban Development, 451 Seventh Street, SW., Room 4116, Washington, DC 20410-5000, telephone (202) 708-0614 or 708-0713, extension 2548 (this is not a toll-free number). Persons with hearing or speech impairments may access this number via TTY by calling the toll-free Federal Information Relay Service at (800) 877-8339.

SUPPLEMENTARY INFORMATION: On July 28, 2006 (71 FR 42996), HUD published a notice entitled, “Implementation Guidance for section 901 of the Emergency Supplemental Appropriations to Address Hurricanes in the Gulf of Mexico, and Pandemic Influenza Act, 2006.” Section 901 of the supplemental appropriations act authorizes HUD to allow PHAs to combine assistance provided under sections 9(d) and (e) of the United States Housing Act of 1937 (Act) and assistance provided under section 8(o) of the Act, for the purpose of facilitating the prompt, flexible, and efficient use of funds provided under these sections of the Act to assist families who were receiving housing assistance under the Act immediately prior to Hurricane Katrina or Rita and were displaced from their housing by the hurricanes. Such authority was provided through calendar year 2006. Section V.A. of the July 28, 2006, notice, entitled, “General Procedures for Combining Public Housing and Voucher Funds Under Section 901,” provided instructions for PHAs interested in implementing the flexibility in funding authorized in section 901.

On October 30, 2006 (71 FR 63340), HUD published a notice extending the period for eligible PHAs located within the most heavily impacted areas of Louisiana and Mississippi that are subject to a declaration by the President of a major disaster under the Robert T. Stafford Disaster Relief and Emergency Assistance Act in connection with Hurricanes Katrina or Rita to submit Notices of Intent and Fungibility Plans in accordance with the July 28, 2006, notice. In addition to extending the PHA submission deadline, the October 30, 2006, notice removed the restriction that the combined funding may not be spent for uses under the Housing Choice Voucher (HCV) program.

This notice revises the earlier notices to incorporate the extension of section 901 flexibility from calendar year (CY) 2006 funding to calendar years 2006 and 2007 funding as authorized by section 4803 of the U.S. Troop Readiness, Veterans' Care, Katrina Recovery, and Iraq Accountability Appropriations Act, 2007 (Pub. L. 110-28, enacted May 25, 2007).

As noted earlier in this notice, eligible PHAs interested in combining (CY) 2007 funds must submit a 2007 Notice of Intent and Fungibility Plan in accordance with the July 28, 2006, and October 30, 2006, Federal Register notices. Further information on HUD processing of CY2007 section 901 flexibility may be found on the Office of Public and Indian Housing Web site at http://www.hud.gov/offices/pih/.

Paula O. Blunt,
General Deputy Assistant Secretary for Public and Indian Housing.

[FR Doc. E7-15165 Filed 8-3-07; 8:45 am]

BILLING CODE 4210-67-P